DEPARTMENT OF COMMERCE

National Oceanic and Atmospheric Administration

RIN 0648-XF454

Notice of Availability of a Record of Decision

AGENCY: National Marine Fisheries Service (NMFS), National Oceanic and Atmospheric Administration (NOAA), Commerce.

ACTION: Notice of availability; record of decision.

SUMMARY: In accordance with the Oil Pollution Act of 1990 (OPA) and the National Environmental Policy Act (NEPA), notice is hereby given that the Deepwater Horizon Federal and State natural resource trustee agencies for the Alabama Trustee Implementation Group (Alabama TIG) have issued a Record of Decision (ROD) for the Alabama Trustee Implementation Group Final Restoration Plan I and Final Environmental Impact Statement: Provide and Enhance Recreational Opportunities (Final RP/EIS). The ROD sets forth the basis for the Alabama TIG's decision to select Alternatives 1: Gulf State Park Lodge and Associated Public Access Amenities Project, 2: Fort Morgan Pier Rehabilitation, 5: Laguna Cove Little Lagoon Natural Resource Protection, 6: Bayfront Park Restoration and Improvement [E & D only], 7: Dauphin Island Eco-Tourism and Environmental Education Area, and 9: Mid-Island Parks and Public Beach Improvements [Parcels B & C].

ADDRESSES: Obtaining Documents: You may download the ROD at http://www.gulfspillrestoration.noaa.gov. Alternatively, you may request a CD of the ROD (see FOR FURTHER INFORMATION CONTACT). You may also view the document at any of the public facilities listed at http://www.gulfspillrestoration.noaa.gov.

FOR FURTHER INFORMATION CONTACT: • NOAA—Dan Van Nostrand, ALTIG.RecUsePlanComments@noaa.gov.

• AL—Amy Hunter, amy.hunter@dcnr.alabama.gov.

SUPPLEMENTARY INFORMATION:

Background

On July 6, 2016, the Alabama TIG initiated a 30-day formal scoping and public comment period for this RP/EIS (81 FR 44007-44008) through a Notice of Intent (NOI) to Prepare a RP/EIS, and to Conduct Scoping. The Alabama TIG conducted the scoping in accordance with OPA (15 CFR 990.14(d)), NEPA (40 CFR 1501.7), and State authorities. That NOI requested public input to identify restoration approaches and restoration projects that could be used to compensate the public for lost recreational use opportunities in Alabama caused by the Deepwater Horizon oil spill in the Gulf of Mexico.

Notice of availability of the Draft RP/EIS was published in the Federal Register on December 16, 2016 (81 FR 91138). The Draft RP/EIS provided the Alabama TIG's analysis of projects to address lost recreational shoreline use under both OPA and NEPA and identified the projects that were proposed as preferred for implementation. The Alabama TIG provided the public with 45 days to review and comment on the Draft RP/EIS. The Alabama TIG also held public meetings in Dauphin Island, AL, and Gulf Shores, AL, to facilitate public understanding of the document and provide opportunity for public comment. The Alabama TIG actively solicited public input through a variety of mechanisms, including convening public meetings, distributing electronic communications, and using the Trustee-wide public Web site and database to share information and receive public input. The Alabama TIG considered the public comments received, which informed the Alabama TIG's analysis of alternatives in the Final RP/EIS. A summary of the public comments received and the Alabama TIG's responses to those comments are addressed in Chapter 9 of the Final RP/EIS and all correspondence received are provided Appendix B.

In the Final RP/EIS, the Alabama TIG presented to the public its plan for providing for compensation for lost recreational shoreline use in Alabama. The Final RP/EIS presented ten individual restoration alternatives, including a no action alternative, evaluated in accordance with OPA and NEPA. The ten alternatives under the Final RP/EIS are as follows:

• Alternative 1 (Preferred Alternative): Gulf State Park Lodge and Associated Public Access Amenities

• Alternative 2 (Preferred Alternative): Fort Morgan Pier Rehabilitation

• Alternative 3: Fort Morgan Peninsula Public Access Improvements

• Alternative 4: Gulf Highlands Land Acquisition and Improvements

• Alternative 5 (Preferred Alternative): Laguna Cove Little Lagoon Natural Resource Protection

• Alternative 6 (Preferred Alternative): Bayfront Park Restoration and Improvements

• Alternative 7 (Preferred Alternative): Dauphin Island Eco-Tourism and Environmental Education Area

• Alternative 8: Mid-Island Parks and Public Beach Improvements (Parcels A, B, and C)

• Alternative 9: (Preferred Alternative): Mid-Island Parks and Public Beach Improvements (Parcels B and C)

• Alternative 10: No Action/Natural Recovery

A Notice of Availability of the Final RP/EIS was published in the Federal Register on April 14, 2017 (82 FR 17975). In the Final RP/EIS, the Alabama TIG presented its analysis of ten restoration alternatives (including the no action alternative) for addressing the loss of recreational shoreline use in Alabama as a result of the Deepwater Horizon oil spill and the selection of six of these alternatives for implementation.

As documented in the Record of Decision (ROD) signed on May 16, 2017, the Alabama TIG has: Reviewed the injury to natural resources and services caused by the Deepwater Horizon oil spill incident as outlined in the “Deepwater Horizon Oil Spill: Final Programmatic Damage Assessment and Restoration Plan (PDARP) and Final Programmatic Environmental Impact Statement (PEIS)”, specifically the injury to recreational shoreline use in Alabama; analyzed alternatives to restore that injury; considered environmental impacts associated with the restoration alternatives, including the extent to which any adverse impacts could be mitigated; considered public and agency comments; and considered the funding allocations required for restoration. Based on these considerations, the ROD presents the Alabama TIG's decision to select Alternatives 1, 2, 5, 6, 7 and 9 for implementation. The AL TIG also concludes that all practicable means to avoid or minimize environmental harm from the alternatives selected have been adopted, and, where consultations are currently incomplete, the AL TIG will commit to additional minimization measures in forthcoming consultations.

Administrative Record

The documents included in the Administrative Record can be viewed electronically at the following location: http://www.doi.gov/deepwaterhorizon/adminrecord.

The DWH Trustees opened a publicly available Administrative Record for the NRDA for the Deepwater Horizon oil spill, including restoration planning activities, concurrently with publication of the 2011 Notice of Intent to Begin Restoration Scoping and Prepare a Gulf Spill Restoration Planning PEIS (pursuant to 15 CFR 990.45). The Administrative Record includes the relevant administrative records since its date of inception. This Administrative Record is actively maintained and available for public review, and includes the administrative record for the RP/EIS.

Authority: The authority of this action is the Oil Pollution Act of 1990 (33 U.S.C. 2701 et seq.), the implementing NRDA regulations found at 15 CFR part 990, and NEPA (42 U.S.C. 4321 et seq.).

Dated: May 22, 2017.
Carrie Selberg,
Deputy Director, Office of Habitat Conservation, National Marine Fisheries Service.

[FR Doc. 2017-10708 Filed 5-24-17; 8:45 am]

BILLING CODE 3510-22-P